FEDERAL COMMUNICATIONS COMMISSION

Public Information Collection(s) Requirement Submitted to OMB for Emergency Review and Approval

November 16, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 21, 2005. If you anticipate that you will be submitting comments, but find it difficult to do so within the period of time allowed by this notice, you should advise the contacts listed below as soon as possible.

ADDRESSES: Direct all PRA comments to Kristy L. LaLonde, Office of Management and Budget, Room 10234 NEOB, Washington, DC 20503, (202) 395-3087, or via fax at 202-395-5167 or via Internet at Kristy_L._LaLonde@omb.eop.gov, and Judith B. Herman, Federal Communications Commission, Room 1-C804, 445 12th Street, SW., Washington, DC 20554. You may submit your Paperwork Reduction Act (PRA) comments by e-mail or U.S. postal mail. To submit your comments by e-mail, send them to: PRA@fcc.gov. To submit your comments by U.S. mail, mark it to the attention of Judith B. Herman, Federal Communications Commission, 445 12th Street, SW., Room 1-C804, Washington, DC 20554.

FOR FURTHER INFORMATION CONTACT: For additional information about the information collection(s), send an e-mail to PRA@fcc.gov or contact Judith B. Herman at 202-418-0214.

SUPPLEMENTARY INFORMATION: The Commission has requested emergency OMB processing review of this new information collection with an OMB approval by November 18, 2005.

OMB Control Number: 3060-1004.

Title: Revision of the Commission's Rules to Ensure Compatibility with Enhanced 911 Emergency Calling Systems.

Form No.: N/A.

Type of Review: Revision of a currently approved collection.

Respondents: Business or other for-profit, not-for-profit institutions, and state, local and tribal government.

Number of Respondents: 50 respondents; 213 responses.

Estimated Time Per Response: 5-200 hours.

Frequency of Response: Quarterly, semi-annual and one-time reporting requirements, third party disclosure requirement, and recordkeeping requirement.

Total Annual Burden: 1,202 hours.

Total Annual Cost: N/A.

Privacy Act Impact Assessment: N/A.

Needs and Uses: The Commission is seeking emergency OMB processing of this information collection by November 18, 2005. We have revised this information collection because on October 21, 2005, the Commission released an order (FCC 05-181) finding that certain Tier III carriers did not sufficiently support their requests for waiver of the E911 rules, but providing the carriers with additional time, until July 21, 2006, to augment the record to show a clear path to full compliance with the E911 requirements. The Commission also imposed conditions and required Tier III carriers to file separate status reports by November 21, 2005, and commencing February 1, 2006, additional status reports on a quarterly basis, for a two-year period.

In addition, on October 28, 2005 (FCC 05-182) and on November 3, 2005 (FCC 05-188), in response to requests for relief submitted by certain Tier III carriers, the Commission released orders that granted, in part, limited extensions of the December 31, 2005 requirement, subject to conditions, and required Tier III carriers to file status reports on a quarterly basis, for a two-year period beginning on February 1, 2006. Further, FCC 05-188 required one Tier III carrier, in addition to the quarterly reporting requirements, to submit a compliance plan by November 3, 2006.

The Commission will use the information submitted by Tier III carriers subject to reporting requirements to ensure that they comply with the Commission's E911 requirements and the terms of the underlying orders addressing their requests for waiver relief.

Federal Communications Commission.
Marlene H. Dortch,
Secretary.

[FR Doc. 05-23098 Filed 11-18-05; 8:45 am]

BILLING CODE 6712-01-P